DEPARTMENT OF ENERGY

Bonneville Power Administration

Leaning Juniper Wind Project

AGENCY: Bonneville Power Administration (BPA), Department of Energy (DOE).

ACTION: Notice of availability of Record of Decision (ROD).

SUMMARY: This notice announces the availability of the ROD to offer contract terms for interconnection of up to 200 megawatts of wind generation from the PPM Energy, Inc.'s, proposed Leaning Juniper Wind Project into the Federal Columbia River Transmission System. This decision is consistent with and tiered to BPA's Business Plan Final Environmental Impact Statement (DOE/EIS-0183, June 1995), and the Business Plan Record of Decision (August 15, 1995). The wind project will be interconnected at BPA's Jones Canyon Switching Station (SS), about three miles southwest of Arlington, Gilliam County, Oregon. The Jones Canyon SS will provide the wind project with transmission access to BPA's McNary-Santiam #2 230-kilovolt transmission line. BPA will increase the capacity of the McNary-Santiam #2 to accommodate the wind project, which will require increased ground clearance at four locations along the transmission line. These proposed line upgrades will be located in Wasco, Gilliam, Sherman, and Morrow Counties, Oregon.

ADDRESSES: Copies of the ROD and EIS may be obtained by calling BPA's toll-free document request line, 1-800-622-4520. The ROD and EIS Summary are also available on our Web site, http://www.efw.bpa.gov.

FOR FURTHER INFORMATION, CONTACT: Don Rose, Bonneville Power Administration—KEC-4, P.O. Box 3621, Portland, Oregon, 97208-3621; toll-free telephone number 1-800-282-3713; fax number (503) 230-5699; or e-mail dlrose@bpa.gov.

Issued in Portland, Oregon, on March 11, 2005.
Stephen J. Wright,
Administrator and Chief Executive Officer.

[FR Doc. 05-5726 Filed 3-22-05; 8:45 am]

BILLING CODE 6450-01-P